ENVIRONMENTAL PROTECTION AGENCY

[FRL-9652-01-R5]

Clean Air Act Operating Permit Program; Petition for Objection To State Significant Operating Permit Modification for BP Products North America, Inc. Whiting Business Unit, Lake County, Indiana

AGENCY: Environmental Protection Agency (EPA).

ACTION: Notice of final Order on petition for objection to a Clean Air Act title V significant operating permit modification.

SUMMARY: The Environmental Protection Agency (EPA) Administrator signed an Order dated March 4, 2022, partially granting and partially denying a petition dated July 22, 2021 (Petition), from the Environmental Integrity Project and the Hoosiers Chapter of the Sierra Club (the Petitioners). The Petition requested that EPA object to a significant modification to a Clean Air Act (CAA) title V operating permit issued by the Indiana Department of Environmental Management (IDEM), to BP Products North America, Inc. Whiting Business Unit (BP Whiting), located in Lake County, Indiana.

ADDRESSES: The final Order, the Petition, and other supporting information are available for public inspection during normal business hours at the following address: U.S. Environmental Protection Agency, Region 5, Air and Radiation Division, 77 West Jackson Boulevard, Chicago, Illinois 60604. This facility is open from 8:30 a.m. to 4:30 p.m., Monday through Friday, excluding Federal holidays and facility closures due to COVID-19. We recommend that you telephone Beth Valenziano at (312) 886-2703 before visiting the Region 5 office. Additionally, the final Order and Petition are available electronically at: https://www.epa.gov/title-v-operating-permits/title-v-petition-database.

FOR FURTHER INFORMATION CONTACT: Beth Valenziano, Air Permits Section, Air Programs Branch (AR-18J), Environmental Protection Agency, Region 5, 77 West Jackson Boulevard, Chicago, Illinois 60604, (312) 886-2703, valenziano.beth@epa.gov.

SUPPLEMENTARY INFORMATION: The CAA affords EPA a 45-day period to review and object to, as appropriate, operating permits proposed by state permitting authorities under title V of the CAA. Section 505(b)(2) of the CAA authorizes any person to petition the EPA Administrator to object to a title V operating permit within 60 days after the expiration of EPA's 45-day review period if EPA has not objected on its own initiative. Petitions must be based only on objections to the permit that were raised with reasonable specificity during the public comment period provided by the state, unless the petitioner demonstrates that it was impracticable to raise these issues during the comment period or unless the grounds for the issues arose after this period.

The Petition from the Petitioners requesting that EPA object to the issuance of significant operating permit modification no. 089-43173-00453 issued by IDEM to BP Whiting alleged: (1) The significant permit modification fails to assure compliance with 326 IAC 6.8-2-6(a) of the Indiana State Implementation Plan, which applies to all emissions of particulate matter smaller than 10 microns (PM10) from each boiler stack; (2) the 494.99 ton PM10 limit is based on maximum firing rates for the boilers and duct burners that cannot be achieved in practice; (3) the emission rates used to quantify PM10 emissions from the boilers are flawed and understate actual emissions by up to 25 percent; and (4) the significant permit modification fails to establish testing, monitoring, or reporting requirements adequate to determine or assure compliance with applicable requirements, including the proposed 12-month PM10 limit.

On March 4, 2022, the EPA Administrator issued an Order partially granting and partially denying the Petition. The Order explains the basis for EPA's decision.

Sections 307(b) and 505(b)(2) of the CAA provide that a petitioner may request judicial review of those portions of an order that deny issues in a petition. Any petition for review of the Administrator's March 4, 2022, Order shall be filed in the United States Court of Appeals for the appropriate circuit no later than May 31, 2022.

Authority: 42 U.S.C. 7401 et seq.

Dated: March 17, 2022.
Debra Shore,
Regional Administrator, Region 5.

[FR Doc. 2022-06877 Filed 3-31-22; 8:45 am]

BILLING CODE 6560-50-P